DEPARTMENT OF THE TREASURY

Submission for OMB Review; Comment Request

December 30, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 5, 2004, to be assured of consideration.

Internal Revenue Service (IRS)

OMB Number: 1545-1534.

Regulation Project Numbers: REG-252936-96 Final.

Type of Review: Extension.

Title: Rewards for Information Relating to Violations and Internal Revenue Laws.

Description: The regulations relate to rewards for information that results in the detection and punishment of violations of the Internal Revenue Laws.

Respondents: Individuals or households, Business or other for-profit, Not-for-profit institutions, Farms.

Estimated Number of Respondents: 10,000.

Estimated Burden Hours Respondent: 3 hours.

Frequency of Response: On occasion.

Estimated Total Reporting Burden: 30,000 hours.

OMB Number: 1545-1587.

Form Number: None.

Type of Review: Revision.

Title: 2004 Electronic Tax Administration Practitioner Tracking Study.

Description: This survey is being conducted to measure changes to baseline measures of Practitioner knowledge and acceptance of Electronic Tax Administration program and to provide the IRS with quantitative data and analysis to assist with making policy decisions on how to better communicate with Practitioners to expand use of e-file.

Respondents: Business or other for-profit.

Estimated Number of Respondents: 1,400.

Estimated Burden Hours Respondent: 1 hour, 17 minutes.

Estimated Total Reporting Burden: 1,797 hours.

OMB Number: 1545-1823.

Form Number: None.

Type of Review: Extension.

Title: e-Services Registration TIN Matching—Application and Screens for TIN Matching Interactive.

Description: e-Services is a system which will permit the Internal Revenue Service to electronically communicate with third party users to support electronic filing and resole tax administration issues for practitioners, payers, states and Department of Education Contractors Registration is required to authenticate users that plan to access e-Services products. This system is necessary outgrowth of advanced information and communication technologies. TIN Matching is one of the products available through e-Services offered via the internet and for income subject to backup withholding to match TIN Matching allows a payer, or their authorized agent, who is required to file information returns for income subject to backup withholding to match TIN/Name combinations through interactive and bulk sessions. It is necessary for payers to apply online to use TIN Matching, and the information requested in the application process is used to validate them systematically as payers of the correct types of income.

Respondents: Business or other for-profit, Not-for-profit-institutions.

Estimated Number of Respondents: 375,000.

Estimated Burden Hours Respondent:

e-Services product | Estimated time to complete (minutes)
Registration | 20
TIN Matching Application | 10
TIN Matching Interactive Session | 10

Frequency of Response: On occasion.

Estimated Total Reporting Burden: 3,590.000 hours.

Clearance Officer: Robert M. Coar, Internal Revenue Service, Room 6411, 1111 Constitution Avenue, NW., Washington, DC 20224, (202) 622-3579.

OMB Reviewer: Joseph F. Lackey, Jr., Office of Management and Budget, Room 10235, New Executive Office Building, Washington, DC 20503, (202) 395-7316.

Lois K. Holland,
Treasury PRA Clearance Officer.

[FR Doc. 04-206 Filed 1-5-04; 8:45 am]

BILLING CODE 4830-01-P